Title 3—

The President

Executive Order 14329 of August 6, 2025

Addressing Threats to the United States by the Government of the Russian Federation

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby determine and order:

Section 1. Background. Executive Order 14066 of March 8, 2022 (Prohibiting Certain Imports and New Investments With Respect to Continued Russian Federation Efforts To Undermine the Sovereignty and Territorial Integrity of Ukraine), expanded the scope of the national emergency declared in Executive Order 14024 of April 15, 2021 (Blocking Property With Respect To Specified Harmful Foreign Activities of the Government of the Russian Federation), to include the actions taken against Ukraine by the Government of the Russian Federation. To address that unusual and extraordinary threat to the national security and foreign policy of the United States, Executive Order 14066 prohibited, among other things, the importation into the United States of certain products of Russian Federation origin, including crude oil; petroleum; and petroleum fuels, oils, and products of their distillation.

I have received additional information from various senior officials on, among other things, the actions of the Government of the Russian Federation with respect to the situation in Ukraine. After considering this additional information, among other things, I find that the national emergency described in Executive Order 14066 continues and that the actions and policies of the Government of the Russian Federation continue to pose an unusual and extraordinary threat to the national security and foreign policy of the United States.

To deal with the national emergency described in Executive Order 14066, I determine that it is necessary and appropriate to impose an additional ad valorem duty on imports of articles of India, which is directly or indirectly importing Russian Federation oil. In my judgment, imposing tariffs, as described below, in addition to maintaining the other measures taken to address the national emergency described in Executive Order 14066, will more effectively deal with the national emergency described in Executive Order 14066.

Sec. 2. Imposition of Tariffs. (a) I find that the Government of India is currently directly or indirectly importing Russian Federation oil.

(b) Accordingly, and as consistent with applicable law, articles of India imported into the customs territory of the United States shall be subject to an additional ad valorem rate of duty of 25 percent. Subject to section 3 of this order, this rate of duty shall be effective with respect to goods entered for consumption, or withdrawn from warehouse for consumption, on or after 12:01 a.m. eastern daylight time 21 days after the date of this order, except for goods that (1) were loaded onto a vessel at the port of loading and in transit on the final mode of transit prior to entry into the United States before 12:01 a.m. eastern daylight time 21 days after the date of this order; and (2) are entered for consumption, or withdrawn from warehouse for consumption, before 12:01 a.m. eastern daylight time on September 17, 2025.

Sec. 3. Scope of Duties and Stacking. (a) The ad valorem duty imposed in section 2 of this order shall be in addition to any other duties, fees, taxes, exactions, and charges applicable to such imports, unless subject to existing or future actions under section 232 of the Trade Expansion Act of 1962, in which case the ad valorem duty imposed in this order shall not apply.

(b) The ad valorem duty imposed in section 2 of this order shall not apply to articles that are excepted by 50 U.S.C. 1702(b).

(c) The ad valorem duty imposed in section 2 of this order shall not apply to articles that are set forth in Annex II to Executive Order 14257 of April 2, 2025 (Regulating Imports With a Reciprocal Tariff To Rectify Trade Practices That Contribute to Large and Persistent Annual United States Goods Trade Deficits), as amended.

(d) The ad valorem duty imposed in Executive Order 14257 of April 2, 2025, as amended, shall apply in addition to the ad valorem duty imposed in section 2 of this order, when applicable pursuant to the terms of Executive Order 14257.

(e) Except for those articles that are eligible for admission under “domestic status” as defined in 19 CFR 146.43, articles that are subject to the duty imposed in section 2 of this order and are admitted into a foreign trade zone on or after 12:01 a.m. eastern daylight time 21 days after the date of this order must be admitted as “privileged foreign status” as defined in 19 CFR 146.41.

Sec. 4. Modification Authority. (a) To ensure that the emergency described in section 1 of this order is dealt with, I may modify this order, including in light of additional information, recommendations from senior officials, or changed circumstances.

(b) Should a foreign country retaliate against the United States in response to this action, I may modify this order to ensure the efficacy of the actions herein ordered.

(c) Should the Government of the Russian Federation or a foreign country impacted by this order take significant steps to address the national emergency described in section 1 of this order and align sufficiently with the United States on national security, foreign policy, and economic matters, I may further modify this order.

Sec. 5. Monitoring and Recommendations. (a) The Secretary of Commerce, in coordination with the Secretary of State, the Secretary of the Treasury, and any other senior official the Secretary of Commerce deems appropriate, shall determine whether any other country is directly or indirectly importing Russian Federation oil. If the Secretary of Commerce finds that a country is directly or indirectly importing Russian Federation oil, the Secretary of State, in consultation with the Secretary of the Treasury, the Secretary of Commerce, the Secretary of Homeland Security, the United States Trade Representative, the Assistant to the President for National Security Affairs, the Assistant to the President for Economic Policy, and the Assistant to the President and Senior Counselor for Trade and Manufacturing, shall recommend whether and to what extent I should take action as to that country, including whether I should impose an additional ad valorem rate of duty of 25 percent on imports of articles of that country.

(b) The Secretary of State shall monitor and regularly consult with any senior official the Secretary of State deems appropriate on the emergency described in section 1 of this order.

(c) The Secretary of State, in consultation with the Secretary of the Treasury, the Secretary of Commerce, the Secretary of Homeland Security, the United States Trade Representative, the Assistant to the President for National Security Affairs, the Assistant to the President for Economic Policy, and the Assistant to the President and Senior Counselor for Trade and Manufacturing, shall recommend to me additional action, if necessary, if the actions in this order are not effective in resolving the emergency described in section 1 of this order or should the Government of the Russian Federation or another foreign country retaliate against the United States in response to the actions taken in this order or any subsequent order issued to address the emergency described in section 1 of this order.

Sec. 6. Delegation. (a) The Secretary of State, in consultation with the Secretary of the Treasury, the Secretary of Commerce, the Secretary of Homeland Security, the United States Trade Representative, the Assistant to the President for National Security Affairs, the Assistant to the President for Economic Policy, and the Assistant to the President and Senior Counselor for Trade and Manufacturing, is hereby authorized to take such actions, including adopting rules and regulations, and to employ all powers granted to the President by IEEPA as may be necessary to implement this order. The Secretary of State may, consistent with applicable law, redelegate any of these functions within the Department of State. Each executive department and agency shall take all appropriate measures within its authority to carry out this order.

(b) The Secretary of Homeland Security, in consultation with the United States International Trade Commission, shall determine whether modifications to the Harmonized Tariff Schedule of the United States are necessary to effectuate this order and may make such modifications through notice in the Federal Register.

(c) U.S. Customs and Border Protection may take any necessary or appropriate measure to administer a duty imposed by this order or any action taken pursuant to this order.

Sec. 7. Definitions. For the purposes of this order:

(a) The term “Russian Federation oil” means crude oil or petroleum products extracted, refined, or exported from the Russian Federation, regardless of the nationality of the entity involved in the production or sale of such crude oil or petroleum products.

(b) The term “indirectly importing” includes purchasing Russian Federation oil through intermediaries or third countries where the origin of the oil can reasonably be traced to Russia, as determined by the Secretary of Commerce in consultation with the Secretary of State and the Secretary of the Treasury.

Sec. 8. Severability. If any provision of this order or the application of any provision of this order to any individual or circumstance is held to be invalid, the remainder of this order and the application of its provisions to any other individuals or circumstances shall not be affected.

Sec. 9. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of State.

THE WHITE HOUSE,

August 6, 2025.

[FR Doc. 2025-15267

Filed 8-8-25; 11:15 am]

Billing code 4710-05-P